DEPARTMENT OF AGRICULTURE

Animal and Plant Health Inspection Service

7 CFR Part 301

[Docket No. 00-076-1]

Imported Fire Ant; Addition to Quarantined Areas

AGENCY: Animal and Plant Health Inspection Service, USDA.

ACTION: Interim rule and request for comments.

SUMMARY: We are amending the imported fire ant regulations because infestations of imported fire ant have been discovered in additional areas in Tennessee. This action will quarantine two new counties and additional portions of four other counties. As a result of this action, the interstate movement of regulated articles from those areas will be restricted. This action is necessary to prevent the artificial spread of the imported fire ant to noninfested areas of the United States. We are also making nonsubstantive changes to the description of other quarantined areas in Tennessee to make them easier to understand.

DATES: This interim rule is effective November 6, 2000. We invite you to comment on this docket. We will consider all comments that we receive by January 5, 2001.

ADDRESSES: Please send four copies of your comment (an original and three copies) to: Docket No. 00-076-1, Regulatory Analysis and Development, PPD, APHIS, Suite 3C03, 4700 River Road, Unit 118, Riverdale, MD 20737-1238

Please state that your comment refers to Docket No. 00-076-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. Ronald Milberg, Operations Officer, PPQ, APHIS, 4700 River Road Unit 36, Riverdale, MD 20737-1231; (301) 734-5255.

SUPPLEMENTARY INFORMATION:

Background

The imported fire ant regulations (contained in 7 CFR 301.81 through 301.81-10 and referred to below as the regulations) quarantine infested States or infested areas within States and restrict the interstate movement of regulated articles to prevent the artificial spread of the imported fire ant.

The imported fire ant, Solenpsis invicta Buren and Solenopsis richteri Forel, is an aggressive, stinging insect that, in large numbers, can seriously injure and even kill livestock, pets, and humans. The imported fire ant, which is not native to the United States, feeds on crops and builds large, hard mounds that damage farm and field machinery. The regulations are intended to prevent the imported fire ant from spreading throughout its ecological range within the country.

The regulations in § 301.81-3 provide that the Administrator of the Animal and Plant Health Inspection Service (APHIS) will list as a quarantined area each State, or each portion of a State, that is infested with the imported fire ant. The Administrator will designate less than an entire State as a quarantined area only under the following conditions: (1) The State has adopted and is enforcing restrictions on the intrastate movement of the regulated articles listed in § 301.81-2 that are equivalent to the interstate movement restrictions imposed by the regulations; and (2) designating less than the entire State will prevent the spread of the imported fire ant. The Administrator may include uninfested acreage within a quarantined area due to its proximity to an infestation or its inseparability from an infested locality for quarantine purposes.

In § 301.81-3, paragraph (e) lists quarantined areas. We are amending § 301.81-3(e) by adding portions of Maury and Sequatchie Counties, TN, changing the status of Lewis County, TN, from partially to completely infested, and revising quarantine boundaries in Giles, Lincoln, and Monroe Counties, TN, to incorporate additional infested areas. We are taking this action because recent surveys conducted by APHIS and State and county agencies revealed that the imported fire ant has spread to these areas.

We are also amending § 301.81-3(e) by simplifying the descriptions of quarantined areas in Decatur, Franklin, Haywood, Henderson, Marshall, and Moore Counties, TN, to make them easier to understand and use. These changes are nonsubstantive and do not change the boundaries. See the rule portion of this document for specific descriptions of the new quarantined areas and the simplified boundary descriptions. Interested parties may also view a map showing the imported fire ant infested areas in the continental United States on the Internet at http://www.aphis.usda.gov/ppq/maps/fireant.jpg.

Emergency Action

This rulemaking is necessary on an emergency basis to prevent the spread of imported fire ant into noninfested areas of the United States. Under these circumstances, the Administrator has determined that prior notice and opportunity for public comment are contrary to the public interest and that there is good cause to under 5 U.S.C. 553 for making this rule effective less than 30 days after publication in the Federal Register.

We will consider comments that are received within 60 days of publication of this rule in the Federal Register. After the comment period closes, we will publish another document in the Federal Register. The document will include a discussion of any comments we receive and any amendments we are making to the rule as a result of the comments.

Executive Order 12866 and Regulatory Flexibility Act

This rule has been reviewed under Executive Order 12866. For this action the Office of Management and Budget has waived its review process required by Executive Order 12866.

This interim rule is necessary because infestations of imported fire ant have been discovered in additional areas in Tennessee. This action will quarantine two new counties and additional portions of four other counties. As a result of this action, the interstate movement of regulated articles from those areas is restricted. This action is necessary to prevent the artificial spread of the imported fire ant into noninfested areas of the United States.

The following analysis addresses the economic effect of this rule on small entities, as required by the Regulatory Flexibility Act.

Affected entities in the quarantined areas include nurseries and greenhouses, farm equipment dealers, construction companies, and all those who sell, process, or move regulated articles from and through quarantined areas. It is now necessary to treat and certify all regulated articles before moving them from the newly quarantined areas.

Economic Analysis for Giles, Lewis, Lincoln, and Monroe Counties, TN

In an interim rule published in the Federal Register and effective on May 11, 2000 (65 FR 30337-30341, Docket No. 00-007-1), we amended the regulations by adding all or part of 35 counties in Arkansas, North Carolina, and Tennessee to the list of quarantined areas. On August 24, 2000 we published in the Federal Register (65 FR 51516-51517, Docket No. 00-007-2) a document that affirmed that interim rule as a final rule. In our August 24, 2000, affirmation, we included an analysis that considered the economic effects that were expected to result from the addition of the 35 partially or completely infested counties to the list of regulated areas. Among the partially infested counties considered in that analysis were Giles, Lewis, Lincoln, and Monroe Counties, TN. We are now changing the status of these four counties from partially to completely infested because recent surveys conducted by APHIS and State and county agencies revealed that the imported fire ant has spread throughout these counties. At this time, further economic analysis for these four counties is not necessary because the analysis contained in our August 24, 2000, affirmation provided information on affected entities for the entirety of each partially infested county. That analysis concluded that the May 11, 2000, interim rule would not have a significant economic impact on a substantial number of small entities in Giles, Lewis, Lincoln, and Monroe Counties, and that conclusion is appropriate for the purposes of this interim rule as well.

Economic Analysis for Maury and Sequatchie Counties, TN

According to the 1997 Census of Agriculture, the market value of agricultural products produced in Maury and Sequatchie Counties was more than $32 million. Seventy percent of these sales are attributable to livestock sales and the remaining 30 percent to crop sales, which include nursery and greenhouse crops. Therefore, there is a large agricultural economy at risk due to the potential of the imported fire ant to damage crops and injure or even kill livestock.

Specifically, in 1997, the value of sales from nursery and greenhouse crops produced in these two counties was $614,000. Nurseries and greenhouses, as well as farm equipment dealers, construction companies, and those who sell, process, or move regulated articles from and through quarantined areas, will be affected by this rule. The availability of various treatments, which, in most cases, permit the movement of regulated articles with minimal additional cost, can minimize the adverse effects on entities that move regulated articles outside of the regulated areas.

According to the Small Business Administration's (SBA) Office of Advocacy, regulations create economic disparities when they have a significant economic impact on a substantial number of small entities. The SBA defines a small agricultural producer as one that generates less than $500,000 of annual sales. Additionally, to be considered small by the SBA's definition, an equipment dealer or agricultural service company must generate less than $5 million in annual sales.

Maury and Sequatchie Counties include at least 569 entities that could be affected by the changes in regulations, and the majority of these entities are small according to the SBA's definition. Producers in Maury and Sequatchie Counties received $8,855,000 from crop, including greenhouse and nursery, sales in 1997.

The estimated annual cost of imposing a quarantine on these counties is very small in comparison to the benefit gained through agricultural sales. For example, the value of a “standard” sized tractor-trailer load of nursery plants ranges from $10,000 to $250,000. The treatment cost for this “standard” shipment of plants is only around $200. An average treatment cost, then, is between 2 percent and 0.8 percent per standard plant shipment. In contrast to the potential losses associated with an imported fire ant infestation, these treatment costs are not significant.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This interim rule has been reviewed under Executive Order 12988, Civil Justice Reform. This rule: (1) Preempts all State and local laws and regulations that are inconsistent with this rule; (2) has no retroactive effect; and (3) does not require administrative proceedings before parties may file suit in court challenging this rule.

National Environmental Policy Act

An environmental assessment and finding of no significant impact have been prepared for this program. The assessment provides a basis for the conclusion that the methods employed to regulate the imported fire ant will not have a significant impact on the quality of the human environment. Based on the finding of no significant impact, the Administrator of the Animal and Plant Health Inspection Service has determined that an environmental impact statement need not be prepared.

The environmental assessment and finding of no significant impact were prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Copies of the environmental assessment and finding of no significant impact are available for public inspection at USDA, room 1141, South Building, 14th Street and Independence Avenue, SW., Washington, DC, between 8 a.m. and 4:30 p.m., Monday through Friday, except holidays. Persons wishing to inspect copies are requested to call ahead on (202) 690-2817 to facilitate entry into the reading room. In addition, copies may be obtained by writing to the individual listed under FOR FURTHER INFORMATION CONTACT.

Paperwork Reduction Act

This final rule contains no information collection or recordkeeping requirements under the Paperwork Reduction Act of 1995 (44 U.S.C. 3501 et seq.).

List of Subjects in 7 CFR Part 301

Agricultural commodities, Plant diseases and pests, Quarantine, Reporting and recordkeeping requirements, Transportation.

Accordingly, we are amending 7 CFR part 301 as follows:

PART 301—DOMESTIC QUARANTINE NOTICES

1. The authority citation for part 301 continues to read as follows:

Authority: Title IV, Pub. L. 106-224, 114 Stat. 438, 7 U.S.C. 7701-7772; 7 U.S.C. 166; 7 CFR 2.22, 2.80, and 371.3.

Section 301.75-15 also issued under Sec. 204, Title II, Pub. L. 106-113, 113 Stat. 1501A-293, and Sec. 203, Title II, Pub. L. 106-224, 114 Stat. 400, 7 U.S.C. 1421 note.

2. In § 301.81-3, paragraph (e), under TENNESSEE, the list of quarantined areas is amended by adding, in alphabetical order, entries for Maury and Sequatchie Counties and by revising the entries for Decatur, Franklin, Giles, Haywood, Henderson, Lewis, Lincoln, Marshall, Monroe, and Moore Counties to read as follows:

§ 301.81-3 Quarantined areas.

* * * * *

(e) * * *

TENNESSEE

* * * * *

Decatur County. That portion of the county lying south of Interstate Highway 40.

* * * * *

Franklin County. That portion of the county lying south and east of a line beginning at the intersection of State Highway 50 and the Moore/Franklin County line; then east along State Highway 50 to U.S. Highway Alt. 41; then north and east along U.S. Highway Alt. 41 to the Franklin/Grundy/Marion County line.

Giles County. That portion of the county lying south of a line beginning at the intersection of State Highway 129 and the Giles/Marshall County line; then west along State Highway 129 to U.S. Highway 31; then west along an imaginary line to the Lawrence/Giles County line.

* * * * *

Haywood County. That portion of the county lying south of Interstate Highway 40.

Henderson County. That portion of the county lying south of Interstate Highway 40.

* * * * *

Lewis County. The entire county.

Lincoln County. The entire county.

* * * * *

Marshall County. That portion of the county lying south of a line beginning at the intersection of State Highway 129 and the Giles/Marshall County line; then east along State Highway 129 to U.S. Highway Alt. 31; then north along U.S. Highway Alt. 31 to State Highway 50; then southeast along State Highway 50 to the Marshall/Lincoln County line.

Maury County. That portion of the county lying south and west of a line beginning at the intersection of the Lewis/Maury County line and Mount Joy Road; then east along Mount Joy Road to State Highway 243; then northeast along State Highway 243 to Dry Creek Road; then south along Dry Creek Road to the Maury/Lawrence County line.

* * * * *

Monroe County. That portion of the county lying south of a line beginning at the intersection of the Loudon/Monroe County line and State Highway 68; then southeast along State Highway 68 to U.S. Highway 411; then northeast along U.S. Highway 411 to the Monroe/Loudon County line; also the entire cities of Sweetwater, Madisonville, and Vonore, TN.

Moore County. That portion of the county lying south of State Highway 50.

* * * * *

Sequatchie County. That portion of the county lying south of a line beginning at the intersection of the Grundy/Sequatchie County line and State Highway 399; then northeast along State Highway 399 to State Highway 8/111; then northeast along an imaginary line to the Sequatchie/Bledsoe County line.

* * * * *

Done in Washington, DC, this 1st day of November 2000.
Bobby R. Acord,
Acting Administrator, Animal and Plant Health Inspection Service.

[FR Doc. 00-28362 Filed 11-3-00; 8:45 am]

BILLING CODE 3410-34-U